DEPARTMENT OF THE INTERIOR

Fish and Wildlife Service

[FWS-HQ-LE-2025-N042; FXLE18110900000-267-FF09L00000; OMB Control Number 1018-0092]

Agency Information Collection Activities; Submission to the Office of Management and Budget; Federal Fish and Wildlife Applications and Reports—Law Enforcement

AGENCY: Fish and Wildlife Service, Interior.

ACTION: Notice of information collection; request for comment.

SUMMARY: In accordance with the Paperwork Reduction Act of 1995 (PRA), we, the U.S. Fish and Wildlife Service (Service), are proposing to renew an information collection without change.

DATES: Interested persons are invited to submit comments on or before March 2, 2026.

ADDRESSES: Written comments and recommendations for the proposed information collection should be submitted within 30 days of publication of this notice at https://www.reginfo.gov/public/do/PRAMain. Find this particular information collection by selecting “Currently under Review—Open for Public Comments” or by using the search function. Please provide a copy of your comments to the Service Information Collection Clearance Officer, U.S. Fish and Wildlife Service, MS: PRB (JAO/3W), 5275 Leesburg Pike, Falls Church, VA 22041-3803 (mail); or by email to Info_Coll@fws.gov. Please reference “1018-0092” in the subject line of your comments.

FOR FURTHER INFORMATION CONTACT: Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act (44 U.S.C. 3501 et seq.) and its implementing regulations at 5 CFR 1320.8(d)(1), all information collections require approval under the PRA. We may not conduct or sponsor and you are not required to respond to a collection of information unless it displays a currently valid Office of Management and Budget (OMB) control number.

On September 11, 2025, we published in the Federal Register (90 FR 44091) a notice of notice of our intent to request that OMB approve this information collection. In that notice, we solicited comments for 60 days, ending on November 10, 2025. We received the following comments in response to that notice:

Comment 1: Anonymous electronic comment received 11/10/2025 via Regulations.gov (FWS-HQ-LE-2025-0572-0007). The commenter did not address the information collection requirements.

Agency Response to Comment 1: No response required.

Comment 2: Electronic comment received 11/10/2025 via Regulations.gov (FWS-HQ-LE-2025-0572-0008) from the Zoological Society of San Diego, doing business as the San Diego Zoo Wildlife Alliance (SDZWA). The submission included the following comments:

SDZWA emphasized the importance of this permit in supporting conservation programs such as the Species Survival Programs (SSP) and other recovery efforts. These programs require frequent movement of animals between institutions to maintain genetic diversity and population sustainability.

The organization provided several recommendations to improve the permit process:

1. Necessity and Utility: The permit is essential for managing wildlife transport and preventing illegal trade. It also helps reduce stress on animals by allowing the shortest and most direct travel routes.

2. Burden Estimate Accuracy: The current estimate of 1.25 hours to complete the form is often inaccurate, especially when specific scenarios require input from multiple experts, sometimes taking days.

3. Quality and Clarity: SDZWA suggests revising the application format to better align questions with the information USFWS needs. Clearer guidance would help applicants provide accurate and complete responses.

4. Minimizing Burden: The organization recommends transitioning to ePermits and accepting online payments, which would streamline the process and reduce reliance on paper checks.

5. Conservation Impact: Clarifying when the permit is required—particularly in relation to CITES and ESA protections—would enhance the effectiveness of the process. For instance, animals born in the U.S. and not listed under CITES or ESA may not require the permit, and such guidance should be made explicit.

The commenter concluded by reaffirming their commitment to wildlife conservation and expressed appreciation for the opportunity to contribute to the improvement of the permitting process.

Agency Response to Comment 2: The Service appreciates the comments from the SDZWA and acknowledges the variances of completion times when completing permit applications. The currently approved burden represents an estimate based on the variety of applicants and their comfort level completing the permit applications.

The Service is working to automate permits but is currently waiting on the new direction regarding electronic permitting processes expected to be developed by the Department of the Interior in the coming year.

We will also consider their recommendation for revisions and the development of improved guidance as we work to develop the proposed deregulatory action under RIN 1018-BF16, “Importation, Exportation, and Transportation of Wildlife; Updates to the Regulations” which is expected in late calendar year 2026.

Comment 3: Electronic comment received 11/10/2025 via Regulations.gov (FWS-HQ-LE-2025-0572-0009) from Dan Ashe, President and CEO, on behalf of the Association of Zoos and Aquariums (AZA). The submission included the following key recommendations and observations:

1. Necessity and Utility: The permit is vital for enabling direct and efficient transport of wildlife, reducing stress on animals and supporting conservation goals. It also aids USFWS in managing wildlife trade and preventing illegal activities.

2. Burden Estimate Accuracy: The current estimate of 1.25 hours to complete the form is often inaccurate. The complexity of the application, especially when specific scenarios are required, can extend the process to several days.

3. Clarity and Quality of Application: AZA recommends revising the application format to better align questions with the information USFWS needs. A guided form or clearer questions would help applicants provide accurate and complete responses.

4. Minimizing Burden: AZA urges USFWS to digitize the permit process through ePermits and allow online payments, replacing the current paper-based system and mailed checks. This would reduce administrative burden for both applicants and agency staff.

The AZA concluded by expressing appreciation for USFWS's commitment to wildlife protection and law enforcement, and emphasized the importance of continued collaboration to streamline processes that support the conservation and recovery of threatened and endangered species.

Agency Response to Comment 3: The Service appreciates the comments from the AZA and acknowledges the variances of completion times when completing permit applications. The currently approved burden represents an estimate based on the variety of applicants and their comfort level completing the permit applications.

The Service is working to automate permits but is currently waiting on the new direction regarding electronic permitting processes expected to be developed by the Department of the Interior in the coming year.

We will also take their remaining for revisions and the development of improved guidance contained in this collection of information under consideration as we work to develop the proposed deregulatory action under RIN 1018-BF16, “Importation, Exportation, and Transportation of Wildlife; Updates to the Regulations” which is expected in late calendar year 2026.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology (e.g., permitting electronic submission of response).

Comments that you submit in response to this notice are a matter of public record. We will include or summarize each comment in our request to OMB to approve this information collection request. Before including your address, phone number, email address, or other personal identifying information in your comment, you should be aware that your entire comment—including your personal identifying information—may be made publicly available at any time. While you can ask us in your comment to withhold your personal identifying information from public review, we cannot guarantee that we will be able to do so.

Abstract: The Endangered Species Act (ESA; 16 U.S.C. 1531 et seq.) makes it unlawful to import or export wildlife or wildlife products for commercial purposes without first obtaining an import/export license (see 16 U.S.C. 1538(d)). The ESA also requires that fish or wildlife be imported into or exported from the United States only at a designated port, or at a nondesignated port under certain limited circumstances (see 16 U.S.C. 1538(f)). This information collection includes the following permit/license application forms:

Form 3-200-2, “Designated Port Exception Permit”

Under 50 CFR 14.11, it is unlawful to import or export wildlife or wildlife products at ports other than those designated in 50 CFR 14.12, unless you qualify for an exception. The following exceptions allow qualified individuals, businesses, or scientific organizations to import or export wildlife or wildlife products at a nondesignated port:

(a) To export the wildlife or wildlife products for scientific purposes;

(b) To minimize deterioration or loss; or

(c) To relieve economic hardship.

To request authorization to import or export wildlife or wildlife products at nondesignated ports, applicants must complete Form 3-200-2. Designated port exception permits can be valid for up to 2 years. We may require a permittee to file a report on activities conducted under authority of the permit.

Forms 3-200-3a, “Federal Fish and Wildlife Permit Application Form: Import/Export License—U.S. Entities,” and 3-200-3b, “Federal Fish and Wildlife Permit Application Form: Import/Export License—Foreign Entities” (Paper and Electronic)

It is unlawful to import or export wildlife or wildlife products for commercial purposes without first obtaining an import/export license (50 CFR 14.91). Applicants located in the United States must complete Form 3-200-3a to request this license. Foreign applicants that reside or are located outside the United States must complete Form 3-200-3b to request this license.

We use the information collected on Forms 3-200-3a and 3-200-3b as an enforcement tool and management aid to (a) monitor the international wildlife market and (b) detect trends and changes in the commercial trade of wildlife and wildlife products. Import/export licenses are valid for up to 1 year. We may require a licensee to file a report on activities conducted under authority of the import/export license.

Form 3-200-44, “Permit Application Form: Registration of an Agent/Tannery Under the Marine Mammal Protection Act (MMPA)”

The information collected on Form 3-200-44 will be used by Service employees to confirm that an applicant has provided a written description of the procedures that they will use to receive, store, process, and ship marine mammal parts and products. The information collected will also be used to confirm the written description system of the bookkeeping and inventory that the applicant will use to receive, store, process and ship marine mammal parts and products, from Native Alaskans to Native Alaskans.

Form 3-200-44a, “Registered Agent/Tannery Bi-Annual Inventory Report”

The information collected on Form 3-200-44a will be used by Service employees to review the activities of the registered agent or registered tannery regarding the receipt and transfer of marine mammal parts and products from Native Alaskans to Native Alaskans.

Unless a form number is specified in the table below, we collect the following information on Forms 3-200-2, 3-200-3a, 3-200-3b, 3-200-44, and 3-200-44a:

We collect information on . . . | So that we can . . .
Name of the individual and personal identifying information such as date of birth, social security number, occupation, and address and contact information | Identify the individual and the activity conducted by the applicant for which a license/permit is required.
Name of business, tax identification number or social security number, description of business, website, and name and contact information for the principal officer | Identify the business and the activity conducted by the applicant for which a license/permit is required.
Name, street address, and contact information for each additional partner/principal officer (3-200-3a and 3b) | Identify all individuals or businesses associated with the entity requesting a license/permit.
Whether or not applicant has or has ever had any Federal fish and wildlife permits; if yes, number of current permit or permit to be renewed/reissued | Identify prior or current activity under Federal wildlife permits. This helps in determining their knowledge of Service laws and regulations.
U.S. address for foreign applicant | Inspect records, as necessary.
Name, physical address, and telephone number of agent or location where business records will be maintained | Inspect records, as necessary.
Street address and contact information for location where wildlife inventories will be kept (3-200-3a and 3b) | Provide Service Officers access to their facility to examine inventories of wildlife or wildlife products imported or to be exported.
Port(s) of entry where importation/exportation is requested (3-200-2) | Determine if port is appropriate to be requested. Determine if additional workload can be accommodated by staff presently available at the requested port.
Valid import/export license number (for commercial shipments) (3-200-2) | Establish compliance with commercial import/export requirements.
Reason for requesting port exception (3-200-2) | Determine if there is a bona fide scientific purpose, potential deterioration or loss, or potential economic hardship that would occur from the issuance of the permit.
General description of wildlife or wildlife products | Determine workload burden.
Whether the applicant is applying for a registration under the Marine Mammal Protection Act (MMPA) as agent, tannery, or both (3-200-44) | Determine whether the business qualifies for a registration under the MMPA.
The species that the agent or tannery wishes to use in the transfer of marine mammal parts and products from Native Alaskans to Native Alaskans (3-200-44) | Determine that the species requested are eligible under the MMPA.
The procedure that the agent or tannery will use to receive, store, process, and ship marine mammal parts and products from Native Alaskans to Native Alaskans (3-200-44) | Determine that these procedures are sufficient to ensure the legitimate transfer of mammal parts and products from Native Alaskans to Native Alaskans.
The system of bookkeeping and inventory used to receive, store, process, and ship marine mammal parts and products from Native Alaskans to Native Alaskans (3-200-44) | Determine that the system of bookkeeping and inventory are sufficient to ensure the legitimate transfer of mammal parts and products from Native Alaskans to Native Alaskans.
A certification by the applicant that they will responsibly receive, store, process, and ship marine mammal parts and products from Native Alaskans to Native Alaskans to receive an exemption under the MMPA (3-200-44) | Confirm that the applicant is aware of the requirements in order to receive an exemption under the MMPA.
A description of the activities of the registered agent or registered tannery regarding the receipt and transfer of marine mammal parts and products from Native Alaskans to Native Alaskans (3-200-44a) | Confirm that the applicant is receiving, storing, processing, and shipping marine mammal parts and products from Native Alaskans to Native Alaskans.

Permittees and licensees must maintain records that accurately describe each importation or exportation of wildlife or wildlife products under the permit/license, and any subsequent sale or transfer of the wildlife or wildlife products. In addition, licensees must make these records and the corresponding inventory of wildlife or wildlife products available for our inspection at reasonable times, subject to applicable limitations of law. Any live wildlife possessed under a Service permit/license must be maintained under humane and healthful conditions. We believe the burden associated with these recordkeeping requirements is minimal because the records already exist.

Importers and exporters must complete Form 3-177 (Declaration for Importation or Exportation of Fish or Wildlife) for all imports or exports of wildlife or wildlife products. This form provides an accurate description of the imports and exports. OMB has approved the information collection for Form 3-177 and assigned OMB Control Number 1018-0012. Normal business practices should produce records (e.g., invoices or bills of sale) needed to document additional sales or transfers of the wildlife or wildlife products.

Generally, we do not require individuals and government entities to submit a report on activities conducted under the authority of a designated port exception permit. On an occasional basis, we may require entities to provide a report on activities conducted under a designated port exception permit or an import/export license.

The public may request a copy of any form contained in this information collection by sending a request to the Service Information Collection Clearance Officer (see ADDRESSES).

Title of Collection: Federal Fish and Wildlife Applications and Reports—Law Enforcement; 50 CFR parts 13 and 14.

OMB Control Number: 1018-0092.

Form Number: Forms 3-200-2, 3-200-3a, 3-200-3b, 3-200-44, and 3-200-44a.

Type of Review: Extension without change of a currently approved collection.

Respondents/Affected Public: Individuals, private sector, and State/local/Tribal entities.

Total Estimated Number of Annual Respondents: 11,933.

Total Estimated Number of Annual Responses: 11,953.

Estimated Completion Time per Response: Varies from 15 minutes to 1 hour 15 minutes, depending on activity.

Total Estimated Number of Annual Burden Hours: 13,431.

Respondent's Obligation: Required to obtain or retain a benefit.

Frequency of Collection: On occasion for Forms 3-200-2, 3-200-3a, 3-200-3b, 3-200-44, and reporting requirements. Biannually for Form 3-200-44a.

Total Estimated Annual Nonhour Burden Cost: $1,188,700. There is a $100 fee associated with applications (Forms 3-200-2, 3-200-3a, and 3-200-3b) and a $150 fee associated with applications (Form 3-200-44) received from individuals and the private sector. There is no fee for applications from government agencies or for processing reports.

The authority for this action is the Paperwork Reduction Act of 1995 (44 U.S.C. 3501 et seq.).

Madonna Baucum,
Information Collection Clearance Officer, U.S. Fish and Wildlife Service.

[FR Doc. 2026-01910 Filed 1-29-26; 8:45 am]

BILLING CODE 4333-15-P